Title 3—

The President

Proclamation 8285 of September 3, 2008

National Historically Black Colleges And Universities Week, 2008

By the President of the United States of America

A Proclamation

Historically Black Colleges and Universities (HBCUs) are helping to extend lifelines of learning throughout our country. During Historically Black Colleges and Universities Week, we pay tribute to these distinguished institutions.

Our Nation's HBCUs help unlock the great potential within students by providing quality higher education to traditionally underserved communities. By offering all students an opportunity to develop their skills and talents, HBCUs are helping more Americans realize the promise of our Nation.

My Administration is committed to promoting equal opportunities and access to higher education for all students. Since 2001, funding for HBCUs and Historically Black Graduate Institutions has increased. Additionally, the College Cost Reduction and Access Act of 2007 makes college more affordable for low-income students by increasing funding for Federal Pell Grants by more than $11 billion. The Act also helps HBCUs increase educational opportunities in the critical fields of math, science, technology, and foreign languages. By educating all of America's students, we are investing in our next generation of leaders and contributing to a more hopeful people and a more prosperous America.

Throughout this week, we renew the call for this country to never rest until equality is real, opportunity is universal, and all citizens can realize their dreams. We also recognize our country's HBCUs and their important role in making these goals a reality.

NOW, THEREFORE, I, GEORGE W. BUSH, President of the United States of America, by virtue of the authority vested in me by the Constitution and laws of the United States, do hereby proclaim September 7 through September 13, 2008, as National Historically Black Colleges and Universities Week. I call upon public officials, educators, librarians, and all the people of the United States to observe this week with appropriate programs, ceremonies, and activities in respect and appreciation for the contributions these valuable institutions and their graduates have made to our country.

IN WITNESS WHEREOF, I have hereunto set my hand this third day of September, in the year of our Lord two thousand eight, and of the Independence of the United States of America the two hundred and thirty-third.

[FR Doc. E8-20794

Filed 9-4-08; 8:45 am]

Billing code 3195-01-P